DEPARTMENT OF STATE

22 CFR Part 121

[Public Notice: 5823]

Amendment of the International Traffic in Arms Regulations: United States Munitions List

AGENCY: Department of State.

ACTION: Final rule.

SUMMARY: The Department of State is amending the International Traffic in Arms Regulations (ITAR) by revising Note (1)(i) of U.S. Munitions List (USML) Category VIII(e) to add the term “primary” to references to a commercial standby instrument system. As a result, Category XII(d) and Category VIII(e) do not include quartz rate sensors if such items are integrated into and included as an integral part of a commercial primary or standby instrument system for use on civil aircraft prior to export or exported solely for integration into such systems. After this exclusion was instituted in 2004 for such standby systems, it became apparent that some primary systems also include the subject quartz rate sensors.

DATES: Effective Date: This rule is effective June 7, 2007.

ADDRESSES:

Interested parties may submit comments at any time by any of the following methods:

• E-mail: DDTCResponseTeam@state.gov with subject line Regulatory Change: Quartz Rate Sensors Change.

• Mail: Department of State, Directorate of Defense Trade Controls, Office of Defense Trade Controls Policy, ATTN: Regulatory Change, 12th Floor, SA-1, Washington, DC, 20522-0112.

• Fax: 202-261-8199.

• Hand Delivery or Courier (regular work hours only): Department of State, Directorate of Defense Trade Controls, Office of Defense Trade Controls Policy, ATTENTION: Regulatory Change, SA-1, 12th Floor, 2401 E Street, NW., Washington, DC 20037.

Persons with access to the Internet may also view this notice by going to the regulations.gov Web site at: http://www.regulations.gov/index.cfm.

FOR FURTHER INFORMATION CONTACT: Ann K. Ganzer, Office of Defense Trade Controls Policy, Department of State, 12th Floor, SA-1, Washington, DC 20522-0112; Telephone 202-663-2792 or FAX 202-261-8199; e-mail: DDTCResponseTeam@state.gov. ATTN: Regulatory Change: Quartz Rate Sensors Change.

SUPPLEMENTARY INFORMATION: In conjunction with requests for Commodity Jurisdiction, the Department of State has determined that certain quartz rate sensors otherwise controlled under the ITAR are not subject to the licensing jurisdiction of the Department of State when integrated into primary or backup inertial navigation systems for civil aircraft or exported solely for integration into such systems. The applicability of these determinations to a particular system will be made on a case-by-case basis in response to U.S. exporters' requests for Commodity Jurisdiction by the Directorate of Defense Trade Controls. These requests will be favorably considered only where the sensor is an integral part of the commercial system or is exported solely for integration into such a system and is important for the safe operation of the civil aircraft. In making these determinations, other factors also will be considered. Among them is the extent to which the sensors can be extracted without damage and used for a significant military application, the extent to which diversion of the sensors alone or in small quantities poses a threat to the national security or foreign policy interests of the United States, and the scope of controls that would be applicable to the commercial system if licensing jurisdiction were transferred to the Department of Commerce. Exports of quartz rate sensors determined by the State Department to not be subject to USML controls will be subject to the licensing jurisdiction of the Department of Commerce whether the sensors are being exported for integration abroad or being exported as an integral part of a commercial primary or standby inertial navigation system.

Regulatory Analysis And Notices

Administrative Procedure Act

This amendment involves a foreign affairs function of the United States and, therefore, is not subject to the procedures required by 5 U.S.C. 553 and 554.

Regulatory Flexibility Act

This rule does not require analysis under the Regulatory Flexibility Act.

Unfunded Mandates Act of 1995

This rule does not require analysis under the Unfunded Mandates Reform Act.

Small Business Regulatory Enforcement Fairness Act of 1996

This amendment has been found not to be a major rule within the meaning of the Small Business Regulatory Enforcement Fairness Act of 1996. It will not have substantial direct effects on the States, the relationship between the National Government and the States, or on the distribution of power and responsibilities among the various levels of government.

Executive Orders 12372 and 13132

It is determined that this rule does not have sufficient federalism implications to warrant application of the consultation provisions of Executive Orders 12372 and 13132.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 121

Arms and munitions, Exports, U.S. Munitions List.

Accordingly, for the reasons set forth above, Title 22, Chapter I, Subchapter M, part 121 is amended as follows:

PART 121—THE UNITED STATES MUNITIONS LIST

1. The authority citation for part 121 continues to read as follows:

Authority: Secs. 2, 38, and 71, Pub. L. 90-629, 90 Stat. 744 (22 U.S.C. 2752, 2778, 2797); E.O. 11958, 42 FR 4311; 3 CFR, 1977 Comp., p. 79; 22 U.S.C. 2651a; Pub. L. 105-261, 112 Stat. 1920.

2. Section 121.1 is amended in paragraph (c) by revising paragraph (e), Note (1)(i) and (ii) of Category VIII—Aircraft and Associated Equipment to read as follows:

§ 121.1 General. The United States Munitions List.

* * * * *

Category VIII—Aircraft and Associated Equipment

* * * * *

(e) * * *

Note: (1) * * *

(i) Are integrated into and included as an integral part of a commercial primary or commercial standby instrument system for use on civil aircraft prior to export or exported solely for integration into such a commercial primary or standby instrument system, and

(ii) When the exporter has been informed in writing by the Department of State that a specific quartz rate sensor integrated into a commercial primary or standby instrument system has been determined to be subject to the licensing jurisdiction of the Department of Commerce in accordance with this section.

* * * * *

Dated: March 26, 2007.
John C. Rood,
Assistant Secretary for International Security and Nonproliferation, Department of State.

[FR Doc. E7-11012 Filed 6-6-07; 8:45 am]

BILLING CODE 4710-25-P